DEPARTMENT OF ENERGY

Federal Energy Regulatory Commission

[Docket No. EL06-43-000]

Northern Virginia Electric Cooperative, Inc., Complainant v. Old Dominion Electric Cooperative, Inc., Respondent; Notice of Complaint

January 6, 2006.

Take notice that on January 5, 2006, Northern Virginia Electric Cooperative (NOVEC) filed a Complaint against Old Dominion Electric Cooperative (Old Dominion) pursuant to section 206 of the Federal Power Act. NOVEC states that it seeks a determination that certain of the terms of the 1992 Amended and Restated Wholesale Power Agreement between NOVEC and Old Dominion are no longer just and reasonable and should be modified for the remaining term of the agreement; a determination that NOVEC's share of Old Dominion's “existing resources” shall be calculated effective as of a date no later than the date of the Complaint based on the ratio of NOVEC's load to Old Dominion's load; and reformation to permit NOVEC to obtain power supply for amounts in excess of NOVEC's share of its “existing resources” from suppliers and/or resources other than Old Dominion.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 6, 2006.

Magalie R. Salas,
Secretary.

[FR Doc. E6-281 Filed 1-12-06; 8:45 am]

BILLING CODE 6717-01-P